DEPARTMENT OF VETERANS AFFAIRS

[OMB Control No. 2900-NEW]

Agency Information Collection Activity: Readjustment Counseling Services Eligibility Determinations

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before April 27, 2026.

ADDRESSES: Comments must be submitted through www.regulations.gov.

FOR FURTHER INFORMATION CONTACT:

Program-Specific information: Rebecca Mimnall, 202-695-9434, vhacopra@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Readjustment Counseling Services Eligibility Determinations.

OMB Control Number: 2900-NEW. https://www.reginfo.gov/public/do/PRASearch (Once at this link, you can enter the OMB Control Number to find the historical versions of this Information Collection).

Type of Review: New collection.

Abstract: Authorization for this information collection is found at 38 U.S.C. 1712A, which requires VA to provide readjustment counseling, through Vet Centers, to certain individuals. The criteria for eligibility are further set forth in 38 U.S.C. 1712A(a)(1)(C). The eligibility criteria in 38 U.S.C. 1712A(a)(1)(C) dictates the type of documentation that must be presented by an individual in order to establish eligibility for readjustment counseling. In order for VA to determine whether individuals seeking readjustment counseling are eligible for such services, individuals must provide VA with certain documentation.

In many cases, eligibility determinations may be based upon existing information in VA databases, and the individual does not need to provide any additional documentation to VA. In other cases, the Vet Center staff must collect documentation from individuals who are seeking readjustment counseling during the intake process. This information collection quantifies only the estimated annual number of Veterans who are asked to provide proof of eligibility documentation to VA. Vet Center staff will review the provided documentation to determine whether the individual is eligible for readjustment counseling services pursuant to 38 U.S.C. 1712A(a)(1)(C).

Affected Public: Individuals or Households.

Estimated Annual Burden: 8,836 hours.

Estimated Average Burden per Respondent: 30 minutes.

Frequency of Response: One time.

Estimated Number of Responses: 17,672.

Authority: 44 U.S.C. 3501 et seq.

Lanea Haynes,
Alternate, VA PRA Clearance Officer, Office of Information Technology, Data Governance Analytics, Department of Veterans Affairs.

[FR Doc. 2026-03778 Filed 2-24-26; 8:45 am]

BILLING CODE 8320-01-P